DEPARTMENT OF THE INTERIOR

National Park Service

[WASO-NRSS-EQD-SSD-15892; PPWONRADE3. PPMRSNR1Y.NM0000]

Proposed Information Collection; Comment Request: Proposed Information Collection; National Park Service Visitor Survey Card

AGENCY: National Park Service, Interior.

ACTION: Notice and request for comments.

SUMMARY: We (National Park Service) are asking the Office of Management and Budget (OMB) to approve the renewal of a collection that will be used to provide an understanding of visitor satisfaction and an understanding of the park and agency performance related to The Government Performance and Results Act (GPRA). To comply with the Paperwork Reduction Act of 1995 and as a part of our continuing efforts to reduce paperwork and respondent burden, we invite the general public and other Federal agencies to comment on this ICR. A Federal agency may not conduct or sponsor and a person is not required to respond to a collection of information unless it displays a currently valid OMB control number.

DATES: To ensure that your comments on this ICR are considered, OMB must receive them on or before June 30, 2014.

ADDRESSES: Please submit written comments on this information collection directly to the Office of Management and Budget (OMB) Office of Information and Regulatory Affairs, Attention: Desk Officer for the Department of the Interior, via email to OIRA_Submission@omb.eop.gov or fax at 202-395-5806; and identify your submission as 1024-0216. Please also send a copy of your comments to Phadrea Ponds, Information Collection Coordinator, National Park Service, 1201 Oakridge Drive, Fort Collins, CO 80525 (mail); or phadrea_ponds@nps.gov (email). Please reference Information Collection 1024-0216 in the subject line.

FOR FURTHER INFORMATION CONTACT: Bret Meldrum, Chief, Social Science Program, National Park Service, 1201 Oakridge Drive, Fort Collins, CO 80525-5596 (mail); Bret_Meldrum@nps.gov (email); or 970-267-7295 (phone). You may also access this ICR at www.reginfo.gov.

I. Abstract

The National Park Service (NPS) Act of 1916, 38 Stat 535, 16 USC 1, et seq., requires that the NPS preserve national parks for the use and enjoyment of present and future generations. The Visitor Survey Card contains eight questions regarding visitor evaluations of service and facility quality, awareness of park significance, and basic demographic information. Each year, all NPS units nationwide (approximately 330) are required to collect data using the Visitor Survey Card. Data and information collected are used to provide feedback that is used by Superintendents and other managers to develop performance improvement plans. We are, therefore, requesting the renewal of the Visitor Services Card so that we may continue to fulfill our program-specific mission to provide an interdisciplinary approach that ensures the integrated use of social science research in NPS decision making.

II. Data

OMB Control Number: 1024-0224.

Title: National Park Service Visitor Survey Card.

Type of Request: Renewal.

Affected Public: General Public; individual households.

Respondent Obligation: Voluntary.

Frequency of Collection: One time.

Estimated Number of Annual Responses: 172,458.

Estimated Annual Burden Hours: 4,062 hours.

Estimated Annual Reporting and Recordkeeping “Non-Hour Cost”: None.

III. Request For Comments

On February 10, 2014 we published a Federal Register notice (79 FR 7697) announcing that we would submit this ICR to OMB for approval. In this notice, public comment was solicited for 60 days ending April 11, 2014. No public comments concerning this notice were received. We again invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 27, 2014.
Madonna L. Baucum,
Information Collection Clearance Officer, National Park Service.

[FR Doc. 2014-12565 Filed 5-29-14; 8:45 am]

BILLING CODE 4310-EH-P